Proclamation 9668 of October 31, 2017

National Family Caregivers Month, 2017

By the President of the United States of America

A Proclamation

Every day, compassionate Americans devote time, energy, and resources to ensure that family members who are disabled, elderly, chronically ill, or injured can remain in the stability and comfort of familiar surroundings. During National Family Caregivers Month, we honor those whose extraordinary selflessness provides others with independence and comfort.

The unselfish devotion of family caregivers affirms the importance of respecting the dignity of life in all stages and underscores the importance of the family unit. Family caregivers empower their spouses, parents, and siblings to maintain ties with family, friends, and community. They also enable their loved ones to live with a measure of independence, sense of security, and peace of mind.

Many family caregivers provide innumerable services to people in need, including meal preparation, shopping, finance management, transportation, and companionship. In addition, they often manage both simple and complex healthcare issues, and coordinate medical appointments to ensure continuity of care. Caregivers must often be available around the clock, which can require them to forgo or postpone priorities for their own lives. Through sacrificial love, caregivers endure emotional, physical, and financial strain for the sake of another.

My Administration proudly supports community efforts and programs across the country that equip caregivers to navigate emotionally complex situations. The Administration for Community Living, through the National Family Caregiver Support Program and Lifespan Respite Care Program, facilitates services for eligible caregivers, including counseling, training, support groups, and respite care. The Caregiver Support Program within the Department of Veterans Affairs helps address the specific needs of those who provide critical support to our Nation's veterans, offering education, financial assistance, peer support mentoring, and respite care services to eligible family members.

Each November we acknowledge the commitment of exceptional Americans who embody the compassion and spirit of our Nation. We support the life-affirming work of our Nation's caregivers and thank them for the sacrificial devotion that improves the lives and honors the dignity of their loved ones.

NOW, THEREFORE, I, DONALD J. TRUMP, President of the United States of America, by virtue of the authority vested in me by the Constitution and the laws of the United States do hereby proclaim November 2017 as National Family Caregivers Month. I encourage all Americans to acknowledge, and express our gratitude to, all who provide compassionate care to enhance the lives of their loved ones in need.

IN WITNESS WHEREOF, I have hereunto set my hand this thirty-first day of October, in the year of our Lord two thousand seventeen, and of the Independence of the United States of America the two hundred and forty-second.

[FR Doc. 2017-24294

Filed 11-3-17; 11:15 am]

Billing code 3295-F8-P